DEPARTMENT OF LABOR

Employment and Training Administration

[TA-W-64,565]

Dakkota Integrated Systems, Chicago, IL; Notice of Termination of Investigation

Pursuant to Section 221 of the Trade Act of 1974, as amended, an investigation was initiated on December 2, 2008 in response to a petition filed by the United Automobile, Aerospace, and Agricultural Implemental Workers America—UAW, Local 3212 on behalf of the workers at Dakkota Integrated Systems, Chicago, Illinois.

The petitioner has requested that the petition be withdrawn. Consequently, the investigation has been terminated.

Signed at Washington, DC, this 4th day of December 2008.
Elliott S. Kushner,
Certifying Officer, Division of Trade Adjustment Assistance.

[FR Doc. E8-29619 Filed 12-12-08; 8:45 am]

BILLING CODE 4510-FN-P